FEDERAL COMMUNICATIONS COMMISSION

47 CFR Part 73

[DA 05-1307; MB Docket No. 04-299, RM-10958]

Radio Broadcasting Services; Refugio, Sinton and Taft, TX

AGENCY: Federal Communications Commission.

ACTION: Final rule.

SUMMARY: At the request of Amigo Radio, Ltd., licensee of Station KOUL(FM), Sinton, Texas, and Pacific Broadcasting of Missouri LLC, licensee of Station KTKY(FM), Taft, Texas, the Audio Division reallots Channel 279C1 from Sinton to Refugio, Texas, and modifies the license of Station KOUL(FM) to reflect the change of community. See 69 FR 51414, August 19, 2004. The document also modifies the operating condition for Station KTKY(FM), Taft, Texas, to read: “Operation of Station KTKY(FM) on Channel 293C2 in Taft, Texas, including program test operation pursuant to Section 73.1620, will not be commenced until such time as express authorization from the Commission has been granted. Such authorization will not be granted until operation has commenced on Station KOUL(FM) at Refugio and is subject to the continued operation by Station KOUL(FM) at Refugio.” Channel 279C1 is reallotted at Refugio at Petitioners' proposed site, 33.8 kilometers (21 miles) southwest of the community at coordinates 28-02-07 NL and 97-26-11 WL. Because this site is within 320 kilometers (199 miles) of the U.S.-Mexican border, concurrence of the Mexican government has been requested for this allotment. However, notification from Mexico has not been received. Therefore, operation with the facilities specified for Refugio in this document is subject to modification, suspension, or termination without right to hearing, if found by the Commission to be necessary in order to conform to the 1992 USA-Mexico FM Broadcast Agreement or if specifically objected to by Mexico. As a result, the Station KTKY operation in Taft would also be subject to termination or suspension.

DATES: Effective June 27, 2005.

ADDRESSES: Federal Communications Commission, 445 Twelfth Street, SW., Washington, DC 20554.

FOR FURTHER INFORMATION CONTACT: Victoria M. McCauley, Media Bureau, (202) 418-2180.

SUPPLEMENTARY INFORMATION: This is a synopsis of the Commission's Report and Order, MB Docket No. 04-299, adopted May 11, 2005, and released May13, 2005. The full text of this Commission decision is available for inspection and copying during regular business hours at the FCC's Reference Information Center, Portals II, 445 Twelfth Street, SW, Room CY-A257, Washington, DC 20554. The complete text of this decision may also be purchased from the Commission's duplicating contractor, Best Copy and Printing, Inc., 445 12th Street, SW, Room CY-B402, Washington, DC 20054, telephone 1-800-378-3160 or http://www.BCPIWEB.com. The Commission will send a copy of this Report and Order in a report to be sent to Congress and the General Accounting Office pursuant to the Congressional Review Act, see 5 U.S.C. 801(a)(1)(A).

List of Subjects in 47 CFR Part 73

Radio, Radio broadcasting.

47 CFR Part 73 is amended as follows:

PART 73—RADIO BROADCAST SERVICES

1. The authority citation for Part 73 continues to read as follows:

Authority: 47 U.S.C. 154, 303, 334 and 336.

§ 73.202 [Amended]

2. Section 73.202(b), the Table of FM Allotments under Texas, is amended by removing Channel 279C1 at Sinton and by adding Channel 279C1 at Refugio.

Federal Communications Commission.
John A. Karousos,
Assistant Chief, Audio Division, Media Bureau.

[FR Doc. 05-10238 Filed 5-24-05; 8:45 am]

BILLING CODE 6712-01-P